ENVIRONMENTAL PROTECTION AGENCY

[RCRA-2002-0030, FRL-7464-1]

Agency Information Collection Activities; Submission of EPA ICR No. 1773.06 (OMB No. 2050-0171) to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NESHAP for Hazardous Waste Combustors (40 CFR part 63, subpart EEE)—(Renewal), (OMB Control No. 2050-0171, EPA ICR No. 1773.06). The ICR, which is abstracted below, describes the nature of the information collection and its estimated burden and cost.

DATES: Additional comments may be submitted on or before April 10, 2003.

ADDRESSES: Follow the detailed instructions in the SUPPLEMENTARY INFORMATION.

FOR FURTHER INFORMATION CONTACT: For general information, call the RCRA Call Center (800) 424-0346. For specific information regarding this notice, call Shiva Garg, Hazardous Waste Minimization and Management Division, Office of Solid Waste, Mail Code 5302W, Environmental Protection Agency, 1200 Pennsylvania Ave., NW., Washington, DC 20460; telephone number: (703) 308-8459; fax number: (703) 308-8433; e-mail address: garg.shiva@epa.gov.

SUPPLEMENTARY INFORMATION: EPA has submitted the following ICR to OMB for review and approval according to the procedures prescribed in 5 CFR 1320.12. On October 30, 2002 (67 FR 66144), EPA sought comments on this ICR pursuant to 5 CFR 1320.8(d). EPA received no comments.

EPA has established a public docket for this ICR under Docket ID No. RCRA-2002-0030, which is available for public viewing at the RCRA Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1742, and the telephone number for the RCRA Docket is (202) 566-0270. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to rcra-docket@epa.gov, or by mail to: EPA Docket Center, Environmental Protection Agency, Mailcode: 5305T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Hazardous Waste Combustors (40 CFR part 63, subpart EEE)—(Renewal), (OMB Control No. 2050-0171, EPA ICR Number 1773.06). This is a request to renew an existing approved collection that is scheduled to expire on October 31, 2004. Under the OMB regulations, the Agency may continue to conduct or sponsor the collection of information while this submission is pending at OMB.

Abstract: EPA regulates the burning of hazardous waste by several source categories of hazardous waste combustors under 40 CFR part 63, parts 264 and 265 (subpart O), and part 266 (subpart H). On September 30, 1999, EPA promulgated (64 FR 52828) standards to control emissions of hazardous air pollutants from incinerators, cement kilns and lightweight aggregate kilns that burn hazardous wastes under 40 CFR part 63. The ICR #1773.02 pertaining to the provisions of this rule was approved under OMB Control # 2050-0171.

A number of parties, representing interests of both industrial sources and of the environmental community, sought judicial review of the September 30, 1999 rule. On July 24, 2001, the United States Court of Appeals for the District of Columbia Circuit (the Court) granted the Sierra Club's petition for review and vacated the challenged portions of the rule. However, the Court invited us and the parties to the proceeding to file a motion to delay issuance of its mandate to request either that the current standards remain in place or that EPA be allowed reasonable time to develop interim standards. EPA and the parties to the proceeding agreed to take several actions, and the Court concurred on them. First, we agreed to issue a one-year extension to the compliance date of September 30, 2002 promulgated in the September 30, 1999 rule. On December 6, 2001 (66 FR 63313), we published a final rule which extended the compliance date to September 30, 2003. Second, we committed to publish an interim rule with revised emission standards and to finalize several compliance and implementation amendments to the rule. These interim standards and compliance and implementation amendments were promulgated on February 13 and 14, 2002 (67 FR 6792 and 67 FR 6968). The interim standards replace the vacated standards, until we finalize final replacement standards that comply with the Court's mandate. Finally, we agreed to issue the final replacement standards by June 14, 2005. EPA also issued four technical correction notices to the rule since the last ICR was approved. They were published at 65 FR 42292 (July 10, 2000), 65 FR 67268 (November 9, 2000), 66 FR 24270 (May 14, 2001) and 67 FR 77687 (December 19, 2002). This ICR revision takes into account the changes to the paperwork burden related to all the above stated changes to the September 30, 1999 rule to-date, as well as to the changes in the hazardous waste combustor universe since the last ICR approval.

During the settlement negotiations, we have had several meetings with all the parties affected by the rule. We collected new information about the operations of the Hazardous Waste Combustors (HWCs) through these meetings. We also obtained newer test burn and trial burn reports from the EPA Regions and the States, which updated our earlier information on the regulated community. We then published a Federal Register notice of data availability (NODA) for these sources at 67 FR 44452 (July 2, 2002) inviting public comments on our updated database. In response, we received over 55 comments, many of which included detailed information about the operation of the HWCs and supplementary test reports. These comments are available for public viewing under Docket # RCRA-2002-0019 and were used in the preparation of this renewal ICR.

The information collection required under this ICR is mandatory for the regulated sources, as it is essential to properly enforce the emission limitation requirements of the rule and will be used to further the proper performance of the functions of EPA. EPA may not conduct or sponsor, and a person is not required to respond to, a collection of information unless it displays a currently valid OMB control number. The OMB control numbers for EPA's regulations are listed in 40 CFR part 9.

Burden Statement: The annual public reporting and recordkeeping burden for this collection of information is estimated to average 1,271 hours per respondent per year. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Hazardous waste incinerators, and hazardous waste burning cement and lightweight aggregate kilns.

Estimated Number of Respondents: 119.

Frequency of Response: On occasion.

Estimated Total Annual Hour Burden: 151,339 hours.

Estimated Total Annualized Capital, Operating/Maintenance Cost Burden: $3,925,726.

Changes in the Estimates: There is an increase of 80,264 hours in the total estimated burden currently identified in the OMB Inventory of Approved ICR Burdens. This increase is because the rule will become effective on September 30, 2003, and the regulated facilities have to upgrade their pollution control devices, install monitoring equipment, and conduct monitoring and recordkeeping activities to ensure compliance by the effective date, and subsequently thereafter.

Dated: February 26, 2003.
Oscar Morales,
Director, Collection Strategies Division.

[FR Doc. 03-5747 Filed 3-10-03; 8:45 am]

BILLING CODE 6560-50-P